DEPARTMENT OF ENERGY

Federal Energy Regulatory Commission

[Docket No. IC18-14-000]

Commission Information Collection Activities (FERC Form No. 552); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection FERC Form No. 552 (Annual Report of Natural Gas Transactions) and submitting the information collection to the Office of Management and Budget (OMB) for review. Any interested person may file comments directly with OMB and should address a copy of those comments to the Commission as explained below. On July 9, 2018, the Commission published a Notice in the Federal Register in Docket No. IC18-14-000 requesting public comments. The Commission received no comments.

DATES: Comments on the collection of information are due October 22, 2018.

ADDRESSES: Comments filed with OMB, identified by OMB Control No. 1902-0242, should be sent via email to the Office of Information and Regulatory Affairs: oira_submission@omb.gov. Attention: Federal Energy Regulatory Commission Desk Officer.

A copy of the comments should also be sent to the Commission, in Docket No. IC18-14-000, by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC Form No. 552, Annual Report of Natural Gas Transactions.

OMB Control No.: 1902-0242.

Type of Request: Three-year extension of the FERC Form No. 552 information collection requirements with no changes to the current reporting requirements.

Abstract: The Commission uses the information collected in the FERC Form No. 552 ¹ to provide greater transparency into the size of the physical natural gas market and the use of physical fixed-price and index-based natural gas transactions. This information assists the Commission and the public in assessing whether index prices are the result of a robust market of fixed-price transactions.

¹ FERC Form No. 552 is prescribed in 18 CFR 260.401.

FERC Form No. 552 had its genesis in the Energy Policy Act of 2005,² which added section 23 of the Natural Gas Act (NGA). Section 23 of the NGA, among other things, directs the Commission “to facilitate price transparency in markets for the sale or transportation of physical natural gas in interstate commerce, having due regard for the public interest, the integrity of those markets, and the protection of consumers.” ³

² Energy Policy Act of 2005, Public Law 109-58, sections 1261 et seq., 119 Stat. 594 (2005).

³ 15 U.S.C. 717t-2(a)(1)(2006).

Type of Respondents: Wholesale natural gas market participants.

Estimate of Annual Burden: ⁴ The Commission estimates the average annual burden and cost ⁵ for this information collection as follows.

⁴ Burden is defined as the total time, effort, or financial resources expended by persons to generate, maintain, retain, or disclose or provide information to or for a Federal agency. Refer to 5 CFR 1320.3 for additional information.

⁵ Costs (for wages and benefits) are based on wage figures from the Bureau of Labor Statistics (BLS) for May 2017 (at https://www.bls.gov/oes/current/naics2_22.htm) and benefits information (for December 2017, issued March 20, 2018, at https://www.bls.gov/news.release/ecec.nr0.htm). The staff estimates that 75% of the work is done by a financial analyst (code 13-2051) at an hourly cost of $64.35 (for wages plus benefits), and 25% of the work is done by legal staff members (code 23-0000) at an hourly cost of $143.68 (for wages plus benefits). Therefore the weighted cost (for wages plus benefits) is rounded to $84.18/hour [or ($64.35/hour × 0.75) + ($143.68/hour × 0.25)].

⁶ Commission staff estimates the average annual burden per respondent to be 20 hours (rather than the prior estimate of ten hours). There are no changes to the reporting requirements.

FERC Form No. 552, Annual Report of Natural Gas Transactions
Category | Number of respondents | Annual number of responses per respondent | Total number of responses | Average burden hours and cost ($) per response | Total annual burden hours and cost ($) | Annual cost per respondent ($) (rounded)
| (1) | (2) | (1) * (2) = (3) | (4) | (3) * (4) = (5) | (5) ÷ (1)
Wholesale natural gas market participants | 675 | 1 | 675 | 20 hrs.; ⁶ $1,683.60 | 13,500 hrs.; $1,136,430 | $1,684

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: September 13, 2018.
Kimberly D. Bose,
Secretary.

[FR Doc. 2018-20620 Filed 9-20-18; 8:45 am]

BILLING CODE 6717-01-P